COMMISSION ON CIVIL RIGHTS

Agenda and Notice of Public Meeting of the Hawaii Advisory Committee

Notice is hereby given, pursuant to the provisions of the rules and regulations of the U.S. Commission on Civil Rights and the regulations of the Federal Advisory Committee Act (FACA), that a meeting of the Hawaii Advisory Committee will convene at 10 a.m. and adjourn at 3 p.m. (Hawaii Time) on Thursday, November 15, 2007, in the South Pacific Ballroom #3 at the Hilton Hawaiian Village, 2005 Kalia Road, Honolulu, Hawaii 96815.

The purpose of the meeting is for the committee to consider and deliberate on the information it gathered during briefings and open session meetings convened in August and September 2007, addressing the “The Native Hawaiian Government Reorganization Act of 2007,” also known as the Akaka bill. The committee will also plan its future activities.

Members of the public are entitled to submit written comments; the comments must be received in the Western Regional Office by November 25, 2007. The address is 300 North Los Angeles Street, Suite 2010, Los Angeles, CA 90012. Persons wishing to e-mail their comments or who desire additional information should contact Angelica Trevino, Secretary, Western Regional Office, U.S. Commission on Civil Rights at (213) 894-3437 [TDY] 213-894-3435, or by e-mail at atrevino@usccr.gov.

Hearing impaired persons who will attend the meeting and require the services of a sign language interpreter should contact the Regional Office at least ten (10) working days before the scheduled date of the meeting.

Records generated from this meeting may be inspected and reproduced at the Western Regional Office, as they become available, both before and after the meeting. Persons interested in the work of this advisory committee are advised to go to the Commission's Web site, http://www.usccr.gov, or to contact the Western Regional Office at the above e-mail or street address.

The meeting will be conducted pursuant to the provisions of the rules and regulations of the Commission and FACA.

Dated in Washington, DC, October 25, 2007.
Ivy L. Davis,
Acting Chief, Regional Programs Coordination Unit.

[FR Doc. E7-21405 Filed 10-30-07; 8:45 am]

BILLING CODE 6335-02-P